DEPARTMENT OF HEALTH AND HUMAN SERVICES

National Institutes of Health

Center for Scientific Review; Amended Notice of Meeting

Notice is hereby given of a change in the meeting of the Reproductive Endocrinology Study Section, June 12, 2002, 8:00 AM to June 13, 2002, 3:00 PM, Bethesda Marriott Suites, 6711 Democracy Boulevard, Bethesda, MD, 20817 which was published in the Federal Register on May 17, 2002, 67 FR 35126-35128.

The meeting has been changed to June 10-11, 2002. The time and location remain the same. The meeting is closed to the public.

Dated: May 23, 2002.
LaVerne Y. Stringfield,
Director, Office of Federal Advisory Committee Policy.

[FR Doc. 02-13728 Filed 5-30-02; 8:45 am]

BILLING CODE 4140-01-M